SECURITIES AND EXCHANGE COMMISSION

Sunshine Act Meeting; Cancellation

FEDERAL REGISTER CITATION OF PREVIOUS ANNOUNCEMENT: 91 FR 185, January 2, 2026

PREVIOUSLY ANNOUNCED TIME AND DATE OF THE MEETING: Thursday, January 8, 2026, at 2:00 p.m.

CHANGES IN THE MEETING: The Closed Meeting scheduled for Thursday, January 8, 2026 at 2:00 p.m. has been cancelled.

CONTACT PERSON FOR MORE INFORMATION: For further information; please contact Vanessa A. Countryman from the Office of the Secretary at (202) 551-5400.

Authority: 5 U.S.C. 552b.

Dated: January 8, 2026.
Vanessa A. Countryman,
Secretary.

[FR Doc. 2026-00412 Filed 1-8-26; 4:15 pm]

BILLING CODE 8011-01-P